DEPARTMENT OF COMMERCE

Foreign-Trade Zones Board

[Docket No. 27-2002]

Foreign-Trade Zone 12—McAllen, Texas, Area; Application for Expansion

An application has been submitted to the Foreign-Trade Zones Board (the Board) by the McAllen Economic Development Corporation, grantee of Foreign-Trade Zone 12, McAllen, Texas, requesting authority to expand its zone to include an additional site in the McAllen, Texas, area, within the Hidalgo/Pharr Customs port of entry. The application was submitted pursuant to the provisions of the Foreign-Trade Zones Act, as amended (19 U.S.C. 81a-81u), and the regulations of the Board (15 CFR part 400). It was formally filed on June 11, 2002.

FTZ 12 was approved on October 23, 1970 (Board Order 84, 35 FR 16962, 11/3/70) and expanded on May 2, 1984 (Board Order 254, 49 FR 22842, 6/1/84), on June 19, 1990 (Board Order 469, 55 FR 26225, 6/27/90), and on April 29, 1996 (Board Order 819, 61 FR 21157, 5/9/96). The zone currently consists of: Site 1 (775 acres, 2 parcels)—McAllen Southwest Industrial Area, Hidalgo County: Parcel 1 (80 acres) located at FM 1016 and Ware Road and Parcel 2 (695 acres) located on FM 1016 between Bentsen Road and Shary Road; and, Site 2 (8.5 acres)—at the Air Cargo Facility within McAllen Miller International Airport complex, McAllen.

The applicant is now requesting authority to expand the general-purpose zone to include two additional parcels at Site 1 within the McAllen Southwest Industrial Area: Parcel 3 (50 acres) at the warehouse facility of Am-Mex Products, Inc., 3801 West Military Highway, Hidalgo County; and Parcel 4 (40 acres) at the warehouse facility of Millard Refrigerated Services, 6800 South Ware Road, Hidalgo County. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW, Washington, DC 20005; or

2. Submissions via the U.S. Postal Service: Foreign-Trade Zones Board, U.S. Department of Commerce, FCB—Suite 4100W, 1401 Constitution Avenue NW, Washington, DC 20230.

The closing period for their receipt is August 19, 2002. Rebuttal comments in response to material submitted during the foregoing period may be submitted during the subsequent 15-day period (to September 3, 2002).

A copy of the application and accompanying exhibits will be available for public inspection at the Office of the Foreign-Trade Zones Board's Executive Secretary at the first address listed above, and at the offices of the McAllen Economic Development Corporation, 6401 South 33rd Street, McAllen, TX 78503.

Dated: June 11, 2002.
Dennis Puccinelli,
Executive Secretary.

[FR Doc. 02-15342 Filed 6-17-02; 8:45 am]

BILLING CODE 3510-DS-P